DEPARTMENT OF THE TREASURY

Internal Revenue Service

26 CFR Part 1

[REG-143244-05]

RIN 1545-BE93

Guidance Under Section 7874 for Determining Ownership by Former Shareholders or Partners of Domestic Entities; Hearing Cancellation

AGENCY: Internal Revenue Service (IRS), Treasury.

ACTION: Cancellation of notice of public hearing on proposed rulemaking.

SUMMARY: This document cancels a public hearing on proposed regulations relating to the disregard of affiliate-owned stock in determining the percentage of stock of a foreign corporation held by former shareholders or partners of a domestic entity, in order to determine whether the foreign corporation is a surrogate foreign corporation under section 7874 of the Internal Revenue Code.

DATES: The public hearing originally scheduled for April 27, 2006, at 10 a.m., is cancelled.

FOR FURTHER INFORMATION CONTACT: Robin R. Jones of the Publications and Regulations Branch, Legal Processing Division, Associate Chief Counsel (Procedure and Administration) at (202) 622-7180 (not a toll-free number).

SUPPLEMENTARY INFORMATION: A notice of proposed rulemaking and notice of public hearing that appeared in the Federal Register on December 28, 2005 (70 FR 76732) announced that a public hearing was scheduled for April 27, 2006, at 10 a.m., in the IRS Auditorium, Internal Revenue Service, 1111 Constitution Avenue, NW., Washington, DC. The subject of the public hearing is under section 7874 of the Internal Revenue Code. The public comment period for these regulations expired on April 6, 2006.

The notice of proposed rulemaking and notice of public hearing instructed those interested in testifying at the public hearing to submit a request to speak and an outline of the topics to be addressed. As of Friday, April 14, 2006, no one has requested to speak. Therefore, the public hearing scheduled for April 27, 2006, is cancelled.

Guy R. Traynor,
Chief, Publications and Regulations Branch, Legal Processing Division, Associate Chief Counsel, (Procedure and Administration).

[FR Doc. E6-5923 Filed 4-19-06; 8:45 am]

BILLING CODE 4830-01-P